SMALL BUSINESS ADMINISTRATION

Disaster Declaration # 10057 and # 10058; Arizona Disaster # AZ-00001

AGENCY: Small Business Administration.

ACTION: Notice.

SUMMARY: This is a notice of an Administrative declaration of a disaster for the State of Arizona, dated 03/02/2005.

Incident: Strong Winter Storms.

Incident Period: 12/28/2004 through 01/12/2005.

Effective Date: 03/02/2005.

Physical Loan Application Deadline Date: 05/02/2005.

EIDL Loan Application Deadline Date: 12/02/2005.

ADDRESSES: Submit completed loan applications to: U.S. Small Business Administration, Disaster Area Office 1, 360 Rainbow Blvd. South 3RD Floor, Niagara Falls, NY 14303.

FOR FURTHER INFORMATION CONTACT: A. Escobar, Office of Disaster Assistance, U.S. Small Business Administration, 409 3rd Street, Suite 6050, Washington, DC 20416.

SUPPLEMENTARY INFORMATION: Notice is hereby given that as a result of the Administrator's disaster declaration on 03/02/2005, applications for disaster loans may be filed at the address listed above or other locally announced locations.

The following areas have been determined to be adversely affected by the disaster:

Primary Counties: Mohave.

Contiguous Counties:

Arizona:

Coconino, La Paz, Yavapai.

California:

San Bernardino.

Nevada:

Clark, Lincoln.

Utah:

Kane, Washington.

The Interest Rates are:

| Percent
Homeowners With Credit Available Elsewhere: | 5.875
Homeowners Without Credit Available Elsewhere: | 2.937
Businesses With Credit Available Elsewhere: | 5.800
Businesses & Small Agricultural Cooperatives Without Credit Available Elsewhere: | 4.000
Other (Including Non-Profit Organizations) With Credit Available Elsewhere: | 4.750
Businesses and Non-Profit Organizations Without Credit Available Elsewhere: | 4.000

The number(s) assigned to this disaster for physical damage is 10057 B and for economic injury is 10058 0.

The States which received EIDL Decl # are Arizona, Nevada, California, and Utah.

(Catalog of Federal Domestic Assistance Numbers 59002 and 59008)

Dated: March 2, 2005.
Hector V. Barreto,
Administrator.

[FR Doc. 05-4998 Filed 3-14-05; 8:45 am]

BILLING CODE 8025-01-P